DEPARTMENT OF ENERGY

Federal Energy Regulatory Commission

[Project No. 8233-001]

L.E. Bell Construction Company, Inc.; Notice of Termination of Exemption by Implied Surrender and Soliciting Comments, Protests, and Motions To Intervene

Take notice that the following hydroelectric proceeding has been initiated by the Commission:

a. Type of Proceeding: Termination of exemption by implied surrender.

b. Project No.: 8233-001.

c. Date Initiated: February 21, 2013.

d. Exemptee: L.E. Bell Construction Company, Inc.

e. Name and Location of Project: The Tallapoosa River Hydroelectric Project is located on the Tallapoosa River in Cleburne County, Alabama.

f. Filed Pursuant to: 18 CFR 4.106.

g. Exemptee Contact Information: Mr. Larry E. Bell and Ms. Lynne B. Pyle, L.E. Bell Construction Company, Inc., 1226 County Road 11, Heflin, AL, 36264.

h. FERC Contact: Krista Sakallaris (202)502-6302 or Krista.Sakallaris@ferc.gov.

i. Deadline for filing comments, protests, and motions to intervene is 30 days from the issuance of this notice by the Commission. Please file your submittal electronically via the Internet (eFiling) in lieu of paper. Please refer to the instructions on the Commission's Web site under http://www.ferc.gov/docs-filing/efiling.asp and filing instructions in the Commission's Regulations at 18 CFR section 385.2001(a)(1)(iii).¹ To assist you with eFilings you should refer to the submission guidelines document at http://www.ferc.gov/help/submission-guide/user-guide.pdf. In addition, certain filing requirements have statutory or regulatory formatting and other instructions. You should refer to a list of these “qualified documents” at http://www.ferc.gov/docs-filing/efiling/filing.pdf. You must include your name and contact information at the end of your comments. Please include the project number (P-8233-001) on any documents or motions filed. The Commission strongly encourages electronic filings; otherwise, you should submit an original and seven copies of its submittal to the following address: The Secretary, Federal Energy Regulatory Commission, Mail Code: DHAC, PJ-12, 888 First Street NE., Washington, DC 20426.

¹ http://www.ferc.gov/legal/fed-sta.asp Select the link for Code of Federal Regulations and navigate to § 385.2001.

j. Description of Existing Facilities: The inoperative project consists of the following existing facilities: (1) A 16-foot-high, 100-foot-long concrete dam; (2) a reservoir with negligible storage capacity at elevation 819 feet m.s.l.; (3) a powerhouse at the base of the dam containing three generating units with a total rated capacity of 400 kW; and (4) a 300-foot-long transmission line tying into the existing Alabama Power Company's system.

k. Description of Proceeding: The exemptee is in violation of Standard Article 1 of its exemption, which was granted on May 13, 1985 (31 FERC ¶ 62,201). The Commission's regulation, 18 CFR 4.106, provides, among other things, that the Commission reserves the right to revoke an exemption if any term or condition of the exemption is violated. The project has not operated since 1996 and the reservoir has been drained.

In November 2010 and in May of 2013 the Commission sent the exemptee letters providing details for filing a surrender application and requiring the exemptee to file information regarding their intentions to restore operation to the project. In January 2013, the Commission sent a letter requiring the exemptee to show cause why the Commission should not initial proceedings to terminate the exemption for failure to resume generation at the project. The exemptee has not responded to any of the Commissions correspondence, nor have they filed a surrender application.

l. This notice is available for review and reproduction at the Commission in the Public Reference Room, Room 2A, 888 First Street NE., Washington, DC 20426. The filing may also be viewed on the Commission's Web site at http://www.ferc.gov/docs-filing/elibrary.asp. Enter the Docket number (P-8233-001) excluding the last three digits in the docket number field to access the notice. You may also register online at http://www.ferc.gov/docs-filing/esubscription.asp to be notified via email of new filings and issuances related to this or other pending projects. For assistance, call toll-free 1-866-208-3676 or email FERCOnlineSupport@ferc.gov. For TTY, call (202) 502-8659.

m. Individuals desiring to be included on the Commission's mailing list should so indicate by writing to the Secretary of the Commission.

n. Comments, Protests, or Motions To Intervene—Anyone may submit comments, a protest, or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular proceeding.

o. Filing and Service of Responsive Documents—Any filing must (1) bear in all capital letters the title “COMMENTS”, “PROTEST”, or “MOTION TO INTERVENE,” as applicable; (2) set forth in the heading the project number of the proceeding to which the filing responds; (3) furnish the name, address, and telephone number of the person commenting, protesting or intervening; and (4) otherwise comply with the requirements of 18 CFR 385.2001 through 385.2005. All comments, protests or motions to intervene must set forth their evidentiary basis and otherwise comply with the requirements of 18 CFR 4.34(b). All comments, protests, or motions to intervene should relate to project works which are the subject of the termination of exemption. A copy of any protest or motion to intervene must be served upon each representative of the Exemptee specified in item g above. If an intervener files comments or documents with the Commission relating to the merits of an issue that may affect the responsibilities of a particular resource agency, they must also serve a copy of the document on that resource agency. A copy of all other filings in reference to this notice must be accompanied by proof of service on all persons listed in the service list prepared by the Commission in this proceeding, in accordance with 18 CFR 4.34(b) and 385.2010.

p. Agency Comments—Federal, state, and local agencies are invited to file comments on the described proceeding. If any agency does not file comments within the time specified for filing comments, it will be presumed to have no comments.

Dated: February 21, 2013.
Kimberly D. Bose,
Secretary.

[FR Doc. 2013-04657 Filed 2-27-13; 8:45 am]

BILLING CODE 6717-01-P